DEPARTMENT OF ENERGY

Federal Energy Regulatory Commission

[Docket No. QF08-1-000]

Albemarle Hospital—Elizabeth City, NC; Notice of Filing of Notice of Self-Certification of Qualifying Status of a Cogeneration Facility

October 10, 2007.

Take notice that on October 1, 2007, Albemarle Hospital located at 1144 N. Road St., Elizabeth City, NC 27906 filed with the Federal Energy Regulatory Commission a notice of self-certification of a facility as a qualifying cogeneration facility pursuant to 18 CFR 292.207(a) of the Commission's regulations.

This qualifying cogeneration facility consists of a 550 kW packaged diesel engine generator set operating on #2 fuel oil. The package is set on a concrete pad. The unit is self-contained, including all necessary switchgear and controls. The electricity is generated at 480 V, 3 phase, 60 Hz. The facility is located at 1144 N. Road St., Elizabeth City, NC 27906.

This qualifying facility interconnects with the City of Elizabeth's electric distribution system. The facility will provide standby power and occasionally supplementary power to Albermerle Hospital.

A notice of self-certification does not institute a proceeding regarding qualifying facility status; a notice of self-certification provides notice that the entity making the filing has determined the Facility meets the applicable criteria to be a qualifying facility. Any person seeking to challenge such qualifying facility status may do so by filing a motion pursuant to 18 CFR 292.207(d)(iii).

This filing is accessible on-line at http://www.ferc.gov, using the ``eLibrary'' link and is available for review in the Commission's Public Reference Room in Washington, DC. There is an ``eSubscription'' link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-20394 Filed 10-16-07; 8:45 am]

BILLING CODE 6717-01-P